NUCLEAR REGULATORY COMMISSION

[Docket No. 40-8838-MLA; ASLBP No. 00-776-04-MLA]

Atomic Safety and Licensing Board; in the Matter of: U.S. Army (Jefferson Proving Ground Site); Notice of Hearing (Application for a License Amendment)

September 20, 2007.

Before Administrative Judges: Alan S. Rosenthal, Chairman; Dr. Paul B. Abramson, Dr. Richard F. Cole.

This Atomic Safety and Licensing Board hereby gives notice that, pursuant to 10 CFR Part 2, Subpart L, it will convene an evidentiary hearing on October 22, 2007 to receive testimony and exhibits concerning the adequacy of the Field Sampling Plan (FSP) in the application submitted by the Department of the Army (Licensee) for an amendment to its NRC materials license (License No. SUB-1435) for an alternate decommissioning schedule. See 10 CFR 40.42(g)(2).

Between 1983 and 1994, under the auspices of that license, the Licensee conducted accuracy testing of depleted uranium (DU) tank penetration rounds at its Jefferson Proving Ground site located in Madison, Indiana. It now seeks a license amendment that would provide an alternate schedule (i.e., a five-year additional period) for the submittal of a decommissioning plan for that site. Such a plan is required because there is currently amassed on the JPG site approximately 70,000 kilograms of DU munitions.

This Board has found one contention presented by Save the Valley, Inc. (Intervenor) regarding the alternate decommissioning schedule to satisfy the admissibility requirements imposed by 10 CFR 2.309(f)(1). LBP-06-6, 63 NRC 167 183-85 (2006). That contention asserts (id. at 183):

As filed, the FSP is not properly designed to obtain all the verifiable data required for reliable dose modeling and accurate assessment of the effects on exposure pathways of meteorological, geological, hydrological, animal, and human features specific to the JPG site and its surrounding area.

On December 20, 2006 and May 1, 2007, the Board rejected Intervenor's other contentions as inadmissable. See LBP-06-27, 64 NRC 438 (2006); LBP-07-07, 65 NRC_(slip op.) (2007).

A. Date, Time, and Location of Evidentiary Hearing

The evidentiary hearing in this proceeding, which will be open to the public,¹ will begin on Monday, October 22, 2007 at 10:30 a.m., and will continue day-to-day, ending no later than Friday, October 26 at 5 p.m., at the location specified below:

Madison City Hall, 101 W. Main Street, Madison, IN 47250.

¹ Members of the public who plan to attend the evidentiary hearing are advised that security measures may be employed at the entrance to the facility, including searches of hand-carried items such as briefcases, backpacks, packages, etc. In addition, signs, banners, posters, and displays will be prohibited because they are disruptive to the conduct of the adjudicatory process. See Procedures for Providing Security Support for NRC Public Meetings/Hearings, 66 FR 31,719 (June 12, 2001).

In the event that a party deems it necessary to discuss protected information at the hearing, that portion of the hearing will be closed to the public. See 10 CFR 2.390(a)(4).

B. Submitting Written Limited Appearance Statements

Any person not a party to the proceeding, including persons who are affiliated with or represented by a party, may submit to the Board at any time a written limited appearance statement setting forth his or her position on matters of concern relating to this proceeding. See 10 CFR 2.315(a). Although these statements do not constitute testimony or evidence in the proceeding, they nonetheless may assist the Board and/or the parties in their consideration of the issues. Such statements should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written statement must be sent to the Chairman of this Licensing Board as follows:

Mail: Administrative Judge Alan S. Rosenthal, c/o: Meg Parish, Esq., Law Clerk, Atomic Safety and Licensing Board Panel, Mail Stop T-3 F23, U.S. Nuclear Regulatory Commission, Washington, DC 20555-0001.

Fax: (301) 415-5599 (verification (301) 415-6094).

E-mail: map4@nrc.gov.

On Tuesday July 18, 2006, this Board entertained oral limited appearance statements from members of the public in connection with this proceeding. See Notice (Notice of Opportunity To Make Oral or Written Limited Appearance Statements), 71 FR 33,776 (June 6, 2006). Another such opportunity for oral statements will not be presented in this notice at this time.

C. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (Electronic Reading Room). Persons who do not have access to ADAMS or who encounter problems in accessing the documents located in ADAMS should contact the NRC PDR reference staff by telephone at (800) 397-4209 or (301) 415-4737, or by e-mail to pdr@nrc.gov.

It is so Ordered.

For the Atomic Safety and Licensing Board ²

² Copies of this Memorandum and Order were sent this date by Internet electronic mail transmission to counsel for (1) the Licensee, (2) the NRC Staff, and (3) Intervenor.

Dated: Rockville, Maryland September 20, 2007.
Alan S. Rosenthal,
Chairman, Administrative Judge.

[FR Doc. E7-19313 Filed 9-28-07; 8:45 am]

BILLING CODE 7590-01-P